DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 26, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Research Service

Title: Focus Groups to Understand Insights and Experiences of Manureshed Managers.

OMB Number: 0518-XXXX.

Summary of Collection: This is a request, made by ARS National Program Leader and ARS Rangeland Management Specialist, that the OMB approve, under the Paperwork Reduction Act of 1995, a generic clearance for the ARS to conduct focus groups to understand the perspectives and experiences of agricultural and natural resource professionals who facilitate collaborative “manureshed” management. A manureshed is the land geographically and economically connected to confined animal feeding operations where manure from the operations can be recycled to meet social, economic, and environmental goals.

Need and Use of the Information: The USDA-ARS Manureshed Working Group will use focus group results to design research and extension activities that address the knowledge gaps and opportunities illuminated by practitioners on the ground to help develop viable strategies for cooperative manure management

The Manureshed Working Group has begun to define the issues and describe potential solutions using its own research-based and extension-based knowledge with geospatial mapping and modeling. The next critical step for manureshed researchers is to engage directly with people on the ground who recycle manure, to incorporate their insights into targeted, solutions-oriented research and extension.

Respondents: Individuals/Households; Farms. Respondent types are animal farmers, crop farmers, manure professionals, natural resource management professionals, and other stakeholders who each have a key role in facilitating manureshed management in Colorado, Minnesota, and New Mexico.

Estimated Number of Respondents: 450.

Estimated Total Annual Burden on Respondents: 398 hours.

Rachelle Ragland-Greene,
Departmental Information Collection Clearance Officer.

[FR Doc. 2024-19243 Filed 8-26-24; 8:45 am]

BILLING CODE 3410-03-P